DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held October 11, 2007 starting at 9 a.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The agenda will include:

• October 11:

• Opening Session (Welcome and Introductory Remarks, Review/Approve Summary of June 26 Meeting, Paper No. 171-07/PMC-554).

• Publication Consideration/Approval:

• Final Draft, New Document, Safety and Performance Standard for Air Traffic Data Link Services in Oceanic and Remote Airspace (Oceanic SPR Standard), RTCA Paper No. 216-07/PMC-559, prepared by SC-189.

• Final Draft, Revised DO-286A, Minimum Aviation System Performance Standards (MASPS) for Traffic Information Service—Broadcast (TIS-B), RTCA Paper No. 228-07/PMC-562, prepared by SC-186.

• Final Draft, New Document, Aircraft Design and Certification for Portable Electronic Device (PED) Tolerance, RTCA Paper No. 229-07/PMC-563, prepared by SC-202.

• Discussion:

• SC-186—Automatic Dependent Surveillance-Broadcast (ADS-B)-Discussion.

• Revised Terms of Reference.

• SC-210—Cabin Management Systems-Discussion.

• Revised Terms of Reference.

• Special Committee Chairman's Reports.

• Action Item Review:

• SC-147—Traffic Alert & Collision Avoidance System-Discussion.

• PMC Ad Hoc Subgroup—Status Review.

• SC-203—Unmanned Aircraft Systems (UAS)-Discussion-Status Review.

• PMC Ad Hoc Subgroup—Report.

• SC-205—Software Considerations-Discussion-Status Review.

• Closing Session (Other Business, Document Production, Date and Place of Next Meeting, Adjourn).

Attendance is open to the interested public but limited to space availability. With the approval of the chairmen, members of the public may present oral statements at the meeting. Persons wishing to present statements or obtain information should contact the person listed in the ‘FOR FURTHER INFORMATION CONTACT' section. Members of the public may present a written statement to the committee at any time.

Issued in Washington, DC, on September 12, 2007.
Francisco Estrada C.,
RTCA Advisory Committee.

[FR Doc. 07-4726 Filed 9-25-07; 8:45 am]

BILLING CODE 4910-13-M